DEPARTMENT OF HEALTH AND HUMAN SERVICES

Centers for Disease Control and Prevention

[30Day-62-03]

Proposed Data Collections Submitted for Public Comment and Recommendations

The Centers for Disease Control and Prevention (CDC) publishes a list of information collection requests under review by the Office of Management and Budget (OMB) in compliance with the Paperwork Reduction Act (44 U.S.C. chapter 35). To request a copy of these requests, call the CDC Reports Clearance Officer at (404) 498-1210. Send written comments to CDC, Desk Officer, Human Resources and Housing Branch, New Executive Office Building, Room 10235, Washington, DC 20503; or by fax to (202) 395-6974. Written comments should be received within 30 days of this notice.

Proposed Project: Racial and Ethnic Approaches to Community Health Information Network (REACH IN)—New—National Center for Chronic Disease Prevention and Health Promotion (NCCDPHP), Centers for Disease Control and Prevention (CDC).

REACH IN is a customized internet-based support system that will allow the Racial and Ethnic Approaches to Community Health 2010 (REACH 2010) Program grantees to perform remote data entry and retrieval of data on the grantees' actions, intervention activities, community/systems change, and change among change agents. This support system is also designed to create on-demand graphs and reports of the grantees' actions and accomplishments. This system will be used by grantees to meet the reporting requirements of their cooperative agreements with CDC. The annual burden for this data collection is 84 hours.

Respondents | No. of respondents | No. of responses/respondent | Avg. burden/response (in hrs.)
REACH 2010 Grantees Officials | 42 | 2 | 1

Dated: August 19, 2003.
Nancy E. Cheal,
Acting Associate Director for Policy, Planning and Evaluation, Centers for Disease Control and Prevention.

[FR Doc. 03-21732 Filed 8-25-03; 8:45 am]

BILLING CODE 4163-18-P